DEPARTMENT OF THE INTERIOR

Fish and Wildlife Service

Coastal Barrier Improvement Act of 1990; Amendments to the John H. Chafee Coastal Barrier Resources System

AGENCY: Fish and Wildlife Service, Interior.

ACTION: Notice of distribution and availability of replacement maps of eight of the John H. Chafee Coastal Barrier Resources System.

SUMMARY: We, the U.S. Fish and Wildlife Service (Service), have replaced maps of eight John H. Chafee Coastal Barrier Resources System units in North Carolina, Georgia, Florida, and Texas, as directed by Congress. We are using this notice to inform the public about the distribution and availability of the replacement maps.

DATES: The replacement map for Units T07/T07P became effective on December 1, 2003. The replacement maps for Unit NC-07P became effective on October 18, 2004. The replacement map for Units P25/P25P became effective on October 30, 2004. The replacement maps for Units FL-95P, FL-96, and GA-06P became effective on October 16, 2006.

ADDRESSES: For information about how to get copies of the maps or where to go to view them, see SUPPLEMENTARY INFORMATION.

FOR FURTHER INFORMATION CONTACT: Ms. Katie Niemi, Department of the Interior, U.S. Fish and Wildlife Service, Division of Habitat and Resource Conservation, (703) 358-2161.

SUPPLEMENTARY INFORMATION:

Background

In 1982, Congress passed the Coastal Barrier Resources Act (Pub. L. 97-348) to restrict Federal spending that has the effect of encouraging development on undeveloped coastal barriers along the Atlantic and Gulf of Mexico coasts. In the Coastal Barrier Improvement Act of 1990 (Pub. L. 101-591), Congress amended the 1982 Act to broaden the definition of a coastal barrier, and approved a series of maps entitled “John H. Chafee Coastal Barrier Resources System” dated October 24, 1990. These maps identify and depict those coastal barriers located on the coasts of the Atlantic Ocean, Gulf of Mexico, Great Lakes, Virgin Islands, and Puerto Rico that are subject to the Federal funding limitations outlined in the Act.

The Act also defines Service responsibilities regarding the John H. Chafee Coastal Barrier Resources System maps. We have official custody of these maps and prepare and distribute copies. In the Federal Register on June 6, 1991 (56 FR 26304), we published a notice of the filing, distribution, and availability of the maps entitled “John H. Chafee Coastal Barrier Resources System” and dated October 24, 1990. We have announced all subsequent map revisions in the Federal Register.

Revisions to the John H. Chafee Coastal Barrier Resources System in Texas

Public Law 108-138, enacted on December 1, 2003, replaced one of the six maps relating to Matagorda Peninsula Units T07/T0P in Matagorda County, Texas, with a revised map entitled “John H. Chafee Coastal Barrier Resources System, Matagorda Peninsula Unit T07/T07P” for that area. The changes to the map ensure that the boundary of Unit T07 does not include property within the Matagorda Dunes Homesites Subdivision. A full complement of infrastructure was available to each lot within the subdivision prior to 1982, therefore meeting the Coastal Barrier Resources Act definition of “developed” at the time the subdivision was included within Unit T07 in 1982. Under the new map, 76 acres (23 fastland acres and 53 associated aquatic habitat acres) were removed from Unit T07, and 3 acres of associated aquatic habitat were added to Unit T07. Additionally, 80 acres were reclassified from Unit T07 to Unit T07P.

Revisions to the John H. Chafee Coastal Barrier Resources System in North Carolina

Public Law 108-339, enacted on October 18, 2004, replaced the two maps relating to Cape Fear Unit NC-07P in New Hanover and Brunswick Counties, North Carolina, with two revised maps entitled “John H. Chafee Coastal Barrier Resources System, Cape Fear Unit NC-07P.” The changes to the maps ensure that the boundary of Unit NC-07P follows the exterior boundaries of lands held for conservation or recreation. Under the new maps, 273 acres (13 acres of fastland and 261 acres of associated aquatic habitat) were removed from Unit NC-07P, and 8,117 acres (2,714 acres of fastland and 5,403 acres of associated aquatic habitat) were added to Unit NC-07P.

Revisions to the John H. Chafee Coastal Barrier Resources System in Florida

Public Law 108-380, enacted on October 30, 2004, replaced one of the two maps relating to Cedar Keys Units P25/P25P in Levy County, Florida, with a revised map entitled “John H. Chafee Coastal Barrier Resources System, Cedar Keys Unit P25/P25P.” The changes to the map clarify the boundaries of an excluded area on Cedar Key so that the Unit P25 boundary more precisely follows geomorphic features. Under the new map, 41 acres (32 fastland acres and 9 associated aquatic habitat acres) were removed from Unit P25, and 56 acres (1 acre of fastland and 55 acres of associated aquatic habitat) were added to Unit P25.

Public Law 109-355, enacted on October 16, 2006, replaced the map relating to Grayton Beach Unit FL-95P and Draper Lake Unit FL-96 in Walton County, Florida, with a revised map entitled “John H. Chafee Coastal Barrier Resources System, Grayton Beach Unit FL-95P Draper Lake Unit FL-96.” The changes to the map ensure that the boundary of Unit FL-95P follows the exterior boundaries of Grayton Beach State Park, while also excluding from the otherwise protected area Old Miller Place Subdivision, as well as portions of Gulf Trace Subdivision and the Town of Grayton Beach. Under the new map, 22 acres (13 fastland acres and 9 associated aquatic habitat acres) were removed from Unit FL-95P, and 1,582 acres (901 fastland acres and 681 associated aquatic habitat acres) of State park land were added to Unit FL-95P. The changes to the map also ensure that the boundary of Unit FL-96 more precisely follows geomorphic features. Four acres (3 fastland acres and 1 associated aquatic habitat acre) were removed from Unit FL-96, and 2 acres of associated aquatic habitat were added to Unit FL-96.

Revisions to the John H. Chafee Coastal Barrier Resources System in Georgia

Public Law 109-354, enacted on October 16, 2006, replaced the map relating to Jekyll Island Unit GA-06P in Glynn County, Georgia, with a revised map entitled “John H. Chafee Coastal Barrier Resources System, Jekyll Island Unit GA-06P.” The changes to the map remove all developed land and approximately 100 acres of undeveloped land from Unit GA-06P. Under the new map, 1,605 acres (1,355 fastland acres and 250 associated aquatic habitat acres) were removed from Unit GA-06P, and 1,478 acres (72 fastland acres and 1,406 associated aquatic habitat acres) were added to Unit GA-06P.

How To Get Copies of the Maps

The Service has given copies of the revised John H. Chafee Coastal Barrier Resources System maps to the House of Representatives Committee on Natural Resources, the Senate Committee on Environment and Public Works, the members of Congress for each affected area, and each appropriate Federal, State, and local agency with jurisdiction over the areas in which the modified units are located.

John H. Chafee Coastal Barrier Resources System maps, including the replacement maps referenced in this Federal Register, are available for download from the Coastal Barrier Resources System web page: http://www.fws.gov/habitatconservation/coastal_barrier.htm.

The public may also contact the following Service offices to make arrangements to view the maps:

Washington Office—All Coastal Barrier Resources System maps

U.S. Fish and Wildlife Service, Division of Habitat and Resource Conservation, 4401 N. Fairfax Dr., Room 400, Arlington, VA 22203; (703) 358-2161.

Southeast Regional Office—All Coastal Barrier Resources System maps for AL, FL, GA, LA, MS, NC, SC, PR, and VI

Region 4, U.S. Fish and Wildlife Service, 1875 Century Blvd., Suite 400, Atlanta, GA 30345; (404) 679-4000.

Southwest Regional Office—All Coastal Barrier Resources System maps for TX

Region 2, U.S. Fish and Wildlife Service, 500 Gold Ave. SW., Albuquerque, NM 87102; (505) 248-6911.

Field Offices—Coastal Barrier Resources System maps for NC, GA, FL, and TX

Field Supervisor, U.S. Fish and Wildlife Service, P.O. Box 33726, Raleigh, NC 27636-3726; (919) 856-4520.

Field Supervisor, U.S. Fish and Wildlife Service, 4270 Norwich Ave. Ext., Brunswick, GA 31520; (912) 265-9336.

Field Supervisor, U.S. Fish and Wildlife Service, 1601 Balboa Ave., Panama City, FL 32405-3721, (850) 769-0552.

Field Supervisor, U.S. Fish and Wildlife Service, 17629 El Camino Real, Suite #211, Houston, TX 77058-3051, (281) 286-8282.

Dated: July 26, 2007.
Everett Wilson,
Deputy Assistant Director, Fisheries and Habitat Conservation.

[FR Doc. E7-18795 Filed 9-21-07; 8:45 am]

BILLING CODE 4310-55-P